DEPARTMENT OF COMMERCE

National Oceanic and Atmospheric Administration

15 CFR Part 902

50 CFR Part 679

[Docket No. 170621579-8522-02]

RIN 0648-BG96

Fisheries of the Exclusive Economic Zone Off Alaska; Nontrawl Lead Level 2 Observers

AGENCY: National Marine Fisheries Service (NMFS), National Oceanic and Atmospheric Administration (NOAA), Commerce.

ACTION: Final rule.

SUMMARY: NMFS issues regulations to modify specific provisions of the North Pacific Observer Program. The first two elements of this final rule implement requirements for an observer to obtain a nontrawl lead level 2 (LL2) deployment endorsement and implement a pre-cruise meeting requirement for vessels required to carry an observer with a nontrawl LL2 deployment endorsement. These two elements are intended to increase the number of observers that qualify for a nontrawl LL2 deployment endorsement and maintain observer safety and data quality. The third element of this final rule removes duplicative and unnecessary reporting requirements and makes minor changes to reduce observer requirements for specific vessels when participating in the Western Alaska Community Development Quota (CDQ) Program. This action is intended to promote the goals and objectives of the Magnuson-Stevens Fishery Conservation and Management Act, the Fishery Management Plan for Groundfish of the Gulf of Alaska, and the Fishery Management Plan for Groundfish of the Bering Sea and Aleutian Islands Management Area, and other applicable law.

DATES: Effective July 30, 2018.

ADDRESSES: Electronic copies of the Regulatory Impact Review (RIR) and the Categorical Exclusion prepared for this action are available from www.regulations.gov or from the NMFS Alaska Region website at alaskafisheries.noaa.gov. All public comment letters submitted during the comment period may be obtained from www.regulations.gov/#!docketDetail;D=NOAA-NMFS-2017-0071.

Written comments regarding the burden-hour estimates or other aspects of the collection-of-information requirements contained in this final rule may be submitted by mail to NMFS Alaska Region, P.O. Box 21668, Juneau, AK 99802-1668, Attn: Ellen Sebastian, Records Officer; in person at NMFS Alaska Region, 709 West 9th Street, Room 420A, Juneau, AK; and to OIRA by email to OIRA_Submission@omb.eop.gov or by fax to 202-395-5806.

FOR FURTHER INFORMATION CONTACT: Alicia M Miller, (907) 586-7228 or alicia.m.miller@noaa.gov.

SUPPLEMENTARY INFORMATION:

Authority for Action

NMFS manages the groundfish fisheries in the exclusive economic zone under the Fishery Management Plan for Groundfish of the Gulf of Alaska (GOA FMP) and under the Fishery Management Plan for Groundfish of the Bering Sea and Aleutian Islands Management Area (BSAI FMP). The North Pacific Fishery Management Council (Council) prepared the FMPs under the authority of the Magnuson-Stevens Fishery Conservation and Management Act (Magnuson-Stevens Act), 16 U.S.C. 1801 et seq. Regulations governing U.S. fisheries and implementing the FMPs appear at 50 CFR parts 600 and 679.

NMFS published the proposed rule for this action on December 27, 2017 (82 FR 61243), with comments invited through January 26, 2018.

NMFS received five comment letters during the applicable comment period. Four of these comment letters were on topics that were outside the scope of this action. One comment letter addressed the proposed rule and contained five substantive comments which are summarized and responded to under the heading “Response to Comments” below.

A detailed review of the provisions of the regulations to modify specific provisions of the North Pacific Observer Program (Observer Program) and the rationale for these regulations are provided in the preamble to the proposed rule (82 FR 61243, December 27, 2017) and are briefly summarized in this final rule.

Background

Regulations at subpart E of 50 CFR part 679 require that most vessels fishing for groundfish or halibut must carry an observer for some or all fishing activities to ensure the collection of data necessary to manage the groundfish and halibut fisheries.

The Observer Program is an integral component in the management of North Pacific fisheries. The Observer Program has two observer coverage categories: Partial and full. Regulations at 50 CFR 679.51 require vessels and processors in the full coverage category to carry an observer at all times when fish are caught or processed. This final rule affects catcher/processors in the full coverage category (i.e., vessels that catch and process their own catch at-sea), and all motherships (i.e., those vessels that receive unsorted catch from other vessels and process that catch at-sea). Owners of vessels or processors in the full coverage category must contract directly with a permitted observer provider and pay for required observer coverage. Two groups of vessels are required to carry an observer with a nontrawl LL2 deployment endorsement.

The first group of vessels includes vessels named on a License Limitation Program license with a Pacific cod catcher/processor hook-and-line endorsement for the Bering Sea, Aleutian Islands, or both the Bering Sea and Aleutian Islands (BSAI). These vessels are subject to monitoring requirements at 50 CFR 679.100 and are referred to as “freezer longline vessels” throughout this final rule. Pursuant to 50 CFR 679.100, a freezer longline vessel must carry an observer with a nontrawl LL2 deployment endorsement when the vessel (1) operates in either the BSAI or Gulf of Alaska groundfish fisheries and directed fishing for Pacific cod is open in the BSAI, or (2) when the vessel participates in the CDQ groundfish fisheries. These monitoring requirements for freezer longline vessels were implemented in 2012 and require freezer longline vessel owners and operators to select between one of two monitoring options: Either carry two observers so that all catch can be sampled, or carry one observer and use a motion-compensated flow scale to weigh Pacific cod before it is processed. Both monitoring options require the vessel to carry one observer endorsed as a nontrawl LL2 observer (77 FR 59053; September 26, 2012).

The second group of vessels that is required to carry an observer with a nontrawl LL2 deployment endorsement includes catcher/processors that use pot gear when participating in the CDQ groundfish fisheries (groundfish CDQ fishing) (77 FR 6492; February 8, 2012). These pot catcher/processors are required to carry an observer with a nontrawl LL2 deployment endorsement when groundfish CDQ fishing and may participate in other fisheries that do not require a nontrawl LL2 observer. Regulations at 50 CFR 679.32 describe the specific monitoring requirements for vessels when participating in the sablefish CDQ, pollock CDQ, and other groundfish CDQ fisheries.

Since 2014, observer providers contracted by vessels in the full coverage category have reported that they have been unable to create and retain an adequate pool of qualified nontrawl LL2 observers resulting in a diminishing pool of qualified observers employed by those observer providers. The requirements in this final rule are intended to increase the number of observers that qualify for a nontrawl LL2 deployment endorsement and thereby minimize additional costs to affected entities for an observer to obtain a nontrawl LL2 deployment endorsement. This final rule also implements provisions that are intended to maintain observer safety and data quality.

This Final Rule

This final rule includes three elements. The first element implements new sampling experience requirements for an observer to obtain a nontrawl LL2 deployment endorsement. These sampling requirements allow sampling experience on a trawl catcher/processor or mothership vessel to count toward a nontrawl LL2 deployment endorsement. These requirements also authorize the Observer Program to require additional training for observers as necessary to adequately prepare them to safely perform data collection duties relevant to the nontrawl LL2 deployment endorsement.

The second element of this final rule requires the operator or manager of a vessel that carries nontrawl LL2 observers to participate in a pre-cruise meeting with the observer assigned to the vessel if notified to do so by NMFS. This final rule requires freezer longline vessels and pot catcher/processors when groundfish CDQ fishing to notify the Observer Program prior to embarking on a trip with a nontrawl LL2 observer who has not deployed on that vessel in the past 12 months. Subsequently, the Observer Program may contact the vessel and require the vessel operator or manager and the observer assigned to the vessel to participate in a pre-cruise meeting prior to embarking on a trip.

The third element of this final rule removes duplicative and unnecessary reporting requirements and makes minor changes to reduce observer requirements for specific vessels participating in the CDQ Program.

Response to Comments

NMFS received five comment letters during the comment period. Four of these comment letters were outside the scope of this action. These letters raised issues not relevant to this rulemaking and are not addressed in this final rule. One comment letter directly addressed the proposed rule and contained five substantive comments that are summarized and responded to below. This comment letter was from the Freezer Longline Coalition (FLC) that represents members of the Freezer Longline Conservation Cooperative (FLCC), which includes freezer longline vessels impacted by this action.

Comment 1: We support implementing new requirements for an observer to obtain a nontrawl LL2 deployment endorsement, and for the operator or manager of a vessel required to carry an observer with a nontrawl LL2 deployment endorsement to participate in a pre-cruise meeting with the observer if notified by NMFS to do so.

Response: NMFS acknowledges this comment.

Comment 2: We agree that increasing the number of observers that may qualify for a nontrawl LL2 deployment endorsement will reduce costs to vessel owners required to carry a nontrawl LL2 endorsed observer.

Response: NMFS acknowledges this comment.

Comment 3: NMFS' proposed rule did not include sufficient explanation about how the implementation of the nontrawl LL2 observer training class will result in enough observers receiving a nontrawl LL2 deployment endorsement to minimize additional costs to the industry.

Response: NMFS disagrees. The preamble to the proposed rule includes a description of the minimum and potential maximum demand for nontrawl LL2 observer training classes (82 FR 61243, December 27, 2017). As described in the preamble to the proposed rule and the RIR, observer providers and representatives of freezer longline vessels reported shortages in 2014 of nontrawl LL2 observers on freezer longline vessels, and that this shortage resulted in delayed fishing operations in some cases. This final rule provides a path for observers with sampling experience on trawl vessels to qualify for a nontrawl LL2 deployment endorsement. NMFS expects this to increase the availability of qualified nontrawl LL2 observers, which would reduce the potential for delayed fishing operations and would reduce costs associated with delays, such as costs for crew time, food, and missed fishing opportunities. Section 4.3.2 and Table 16 of the RIR and the preamble to the proposed rule include additional information about the costs to industry created by a shortage of nontrawl LL2 observers.

In addition, the proposed rule cites the best scientific information available, and Section 3.3.5 of the RIR provided a description of the estimated costs to the freezer longline fleet due to the shortage of nontrawl LL2 endorsed observers. Specifically, Section 3.3.5 of the RIR summarizes the costs of voluntarily carrying a second observer to allow the observer to gain experience required for a nontrawl LL2 deployment endorsement. That cost is estimated to be $11,130 per observer for a 30-day trip. NMFS estimated this cost per trip by using information provided in Table 16 of the RIR. NMFS multiplied the estimated length of a freezer longline trip (30 days) by the estimated cost per day to deploy an observer ($371). NMFS then multiplied that total by the number of trips for which a freezer longline vessel voluntarily carried a second observer to obtain the total annual estimated cost.

NMFS expects that the cost for an observer with the requisite experience aboard a vessel using trawl gear to obtain a LL2 deployment endorsement through a two to three day training course will be significantly lower than the cost associated with a 30-day deployment. Based on the best available scientific information, NMFS anticipates that providing at least one nontrawl LL2 observer training class annually will meet the demand for additional nontrawl LL2 deployment endorsements, and freezer longline vessels will not need to voluntarily carry a second observer and incur associated additional costs.

In addition, the Observer Program routinely determines the training necessary for an observer to receive certification, annual endorsements and deployment endorsements, and responds to requests from observer providers to schedule training classes at NMFS facilities. The Observer Program may adjust the number of nontrawl LL2 training classes offered each year if required to meet demand.

Comment 4: NMFS should not apply the Small Business Administration (SBA) principles of affiliation for the purpose of determining if members of the FLCC are considered small entities under the Regulatory Flexibility Act (RFA). In addition, SBA's principles are not the best guide for considering affiliation for RFA analyses performed by NMFS.

Response: NMFS disagrees. Under Executive Order 13272, signed on August 13, 2002, the SBA's Office of Advocacy is directed to provide Federal agencies with training and information on how to comply with the RFA. The SBA provides information about how to comply with the RFA through its regulations at 13 CFR part 121 and guidance posted on its website at www.sba.gov. Therefore, it is appropriate for NMFS to apply regulations and guidelines developed by the SBA in classifying entities for RFA analyses.

Based on the contractual relationships, recognized since the formation of the FLCC in August 2010, NMFS determined that all members of the FLCC are affiliated as described under 13 CFR 121.103(f) for the purpose of analyses prepared under the RFA. This application of the SBA principles of affiliation is consistent with how NMFS has applied this size standard to vessels and processors in fishing cooperatives in the North Pacific since at least 2001 (66 FR 65028; December 17, 2001). NMFS has applied this same determination to vessels and processors in fishing cooperatives under the American Fisheries Act, the Crab Rationalization Program, the Amendment 80 Program, the Gulf of Alaska Rockfish Program, and for the FLCC.

The FLCC is a registered active non-profit corporation in the State of Washington and, through the FLC, maintains an active website identifying all member vessels (http://www.freezerlonglinecoalition.com/members.html). In addition, the FLC affirms that the FLCC operates as a voluntary fishery cooperative in its letter of comment on the proposed rule by stating that “All members of the FLC [Freezer Longline Coalition] are also members of the Freezer Longline Conservation Cooperative (FLCC), a voluntary fishing cooperative established in 2010.”

Thus, NMFS maintains that the members of the FLCC are recognized as members of a voluntary fishing cooperative with a single identity of interest in the harvest of the annual allocation of Pacific cod to the BSAI freezer longline vessels such that interests should be aggregated for the purpose of analysis prepared under the RFA. The contractual relationship among vessels in the cooperative allows members to work together to more efficiently harvest fishery allocations. The ability to plan ahead, cooperate in harvest decisions, and share some expenses constitutes a degree of economic dependence not available to independent fishing vessels. In addition, the conclusion that the members of the FLCC are affiliated for purposes of the RFA is consistent with previous actions implemented since the formation of the FLCC in 2010 and impacting the same fleet prosecuting the same resources (77 FR 59053, September 26, 2012; 77 FR 58775, September 24, 2012; 79 FR 603, January 6, 2014; 79 FR 68610, November 18, 2014).

Comment 5: NMFS incorrectly classifies freezer longline vessels as predominantly engaged in fish harvesting rather than fish processing for the purpose of analysis required under the RFA. The commenter asserts that catcher/processors should be classified as predominantly involved in fish processing and the associated threshold of employing 750 or fewer persons on a full-time, part-time, temporary, or other basis, at all affiliated operations worldwide should be applied to determine if an entity is considered small under the RFA.

Response: NMFS disagrees. As described in the response to Comment 4, all freezer longline vessels impacted by this action are members of the FLCC. In a letter received by NMFS on May 19, 2011 from the FLCC, the FLCC describes itself as a voluntary fishing cooperative with the purpose of “promoting, fostering, and encouraging the intelligent and orderly harvest of Pacific cod and other groundfish species in the Bering Sea/Aleutian Islands longline fisheries off Alaska . . .” The FLCC's description of its members refers to coordinating the harvest of finfish and does not refer to processing as a primary activity. Further, the members of the FLCC have exclusive harvesting rights to the annual allocation in the BSAI to the defined class of longline catcher/processor subsector participants rather than exclusive processing rights. Additionally, none of the FLCC members purchase unprocessed catch for the sole purpose of increasing processing activity; therefore, the processing activity of an individual freezer longline vessel is limited by its harvesting activity. Without the primary harvesting activity, the secondary processing activity does not occur. For these reasons, NMFS affirms its determination that, for purposes of RFA analyses, the freezer longline vessels affected by this action are primarily engaged in commercial fishing. Therefore, it is appropriate for NMFS to classify freezer longline vessels in the commercial fishing industry category (NAICS 11411), and to apply the small business size standard of $11 million in annual gross receipts to the group of affiliated vessels.

Changes From Proposed to Final Rule

NMFS made three changes to this final rule. These changes provide minor clarifications that do not substantively modify the regulations as proposed.

The first change adds the word “either” and the regulatory text in paragraph (a)(5)(v)(C)(4) of the proposed rule to paragraph § 679.53(a)(5)(v)(C)(3) to clarify that either one of the two minimum sampling experience requirements may satisfy one of the three conditions set forth in paragraph (a)(5)(v)(C) necessary to deploy as a nontrawl lead level 2 observer.

The second change adds the words “at least” to § 679.53(a)(5)(v)(C)(3) to clarify that at least 100 or more sampled hauls on catcher/processors using trawl gear satisfies the minimum sampling experience requirement specified in this paragraph.

The third change correctly identifies the locations in 50 CFR part 679 where the term “Observer Program Office” will be replaced with the term “Observer Program” by including § 679.52(a)(2), (b)(1)(iii)(A), (b)(2)(iv), (b)(3)(ii)(B), and (b)(8) introductory text. These paragraphs were inadvertently incorrectly listed in the table as paragraphs of § 679.51 in the proposed rule.

OMB Revisions to PRA References in 15 CFR 902.1(b)

Section 3507(c)(B)(i) of the Paperwork Reduction Act (PRA) requires that agencies inventory and display a current control number assigned by the Director of the Office of Management and Budget (OMB), for each agency information collection. Section 902.1(b) identifies the location of NOAA regulations for which OMB control numbers have been issued. Because this final rule revises and adds data elements within a collection-of-information for recordkeeping and reporting requirements, this final rule includes revisions to 15 CFR 902.1(b) to correctly reference the control number and associated regulation sections included in this final rule.

Classification

The Administrator, Alaska Region, NMFS, has determined that this final rule is necessary for the conservation and management of the groundfish fishery and is consistent with the GOA and BSAI FMPs, the Magnuson-Stevens Act, and other applicable law.

This final rule has been determined to be not significant for the purposes of Executive Order 12866.

The Chief Counsel for Regulation of the Department of Commerce certified to the Chief Counsel for Advocacy of the Small Business Administration (SBA) that this final rule will not have a significant economic impact on a substantial number of small entities. NMFS published a proposed rule on December 27, 2017 (82 FR 61243). An IRFA was prepared and included in the “Classification” section of the preamble to the proposed rule. The comment period closed on January 26, 2018. NMFS received five letters of comment on the proposed rule. One comment letter contained two comments on the IRFA, which are summarized in the “Response to Comments” section (Comments 4 and 5). The comments on the IRFA were considered by NMFS in the decision to certify this final rule. The Chief Counsel for Advocacy of the SBA did not file any comments on the proposed rule.

The factual basis for certification of this final rule is described below. This action includes three elements that modify specific provisions of the Observer Program. The first element modifies sampling experience requirements for an observer to obtain a nontrawl LL2 deployment endorsement. The second element requires the operator or manager of a vessel required to carry an observer with a nontrawl LL2 deployment endorsement to participate in a pre-cruise meeting when notified to do so by NMFS. The third element removes duplicative and unnecessary reporting requirements and makes minor changes to reduce or remove observer-related requirements for specific vessels when participating in the CDQ Program.

This action directly regulates observers and owners and operators of the following vessels: (1) Freezer longline vessels that participate in the BSAI hook-and-line Pacific cod fishery; and (2) pot catcher/processors, trawl catcher/processors, nontrawl catcher/processors, and motherships when groundfish CDQ fishing. For reasons explained in more detail in the IRFA and in responses to Comment 4 and Comment 5 in the preamble to this final rule, NMFS has determined that there are no small entities directly regulated by this final rule.

In addition, this action is expected to reduce the cost for vessels to comply with observer coverage requirements and is not expected to impose significant costs of complying with new reporting requirements. This action will benefit all affected vessels by increasing the number of observers that may qualify for a nontrawl LL2 deployment endorsement and will remove observer-related requirements for specific vessels when participating in the CDQ Program.

For all of these reasons, this action is not expected to have a significant economic impact on a substantial number of small entities. As a result, a final regulatory flexibility analysis is not required, and none has been prepared. The economic analysis contained in the RIR (see ADDRESSES) and in the IRFA included in the “Classification” section of the proposed rule prepared for this action further describes the regulatory and operational characteristics of the affected vessels, including the history of this action, and the details of the alternatives considered for this action, including the preferred alternative.

Collection-of-Information Requirements

This final rule contains collection-of-information requirements subject to the Paperwork Reduction Act (PRA) and which have been approved by the Office of Management and Budget (OMB) under OMB control number 0648-0318 (North Pacific Observer Program). The public reporting burden for these collection-of-information requirements includes the time for reviewing instructions, searching existing data sources, gathering and maintaining the data needed, and completing and reviewing the collection of information.

This final rule will require that the Observer Program be notified by phone at least 24 hours prior to departure when a vessel will carry an observer who has not deployed on that vessel in the past 12 months. Public reporting burden per response to notify the Observer Program by phone is estimated to be five minutes.

Send comments on these burden estimates or any other aspect of this data collection, including suggestions for reducing the burden, to NMFS Alaska Region (see ADDRESSES), and by email to OIRA_Submission@omb.eop.gov, or by fax to (202) 395-5806.

Notwithstanding any other provision of the law, no person is required to respond to, and no person shall be subject to penalty for failure to comply with, a collection of information subject to the requirements of the PRA, unless that collection of information displays a currently valid OMB control number. All currently approved NOAA collections of information may be viewed at http://www.cio.noaa.gov/services_programs/prasubs.html.

List of Subjects

15 CFR Part 902

Reporting and recordkeeping requirements.

50 CFR Part 679

Alaska, Fisheries, Recordkeeping and reporting requirements.

Dated: June 26, 2018.
Samuel D. Rauch, III,
Deputy Assistant Administrator for Regulatory Programs, National Marine Fisheries Service.

For the reasons set out in the preamble, NMFS amends 15 CFR part 902 and 50 CFR part 679 as follows:

Title 15—Commerce and Foreign Trade

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, in the table in paragraph (b), under the entry “50 CFR”, add entries in alphanumeric order for “679.84(c)(7)” and “679.93(c)(7)”; remove the entry for “679.100 (a) and (b)”; and add entries in alphanumeric order for “679.100(a)” and “679.100(b)” to read as follows:

§ 902.1 OMB control numbers assigned pursuant to the Paperwork Reduction Act.

* * * * *

(b) * * *

CFR part or section where the information collection requirement is located | Current OMB control number (all numbers begin with 0648-)
* * * * *
50 CFR:
* * * * *
679.84(c)(7) | −0318.
* * * * *
679.93(c)(7) | −0318.
* * * * *
679.100(a) | −0330 and −0515.
679.100(b) | −0318, −0330, and −0515.
* * * * *

* * * * *

Title 50—Wildlife and Fisheries

PART 679—FISHERIES OF THE EXCLUSIVE ECONOMIC ZONE OFF ALASKA

3. The authority citation for part 679 continues to read as follows:

Authority: 16 U.S.C. 773 et seq.; 1801 et seq.; 3631 et seq.; Pub. L. 108-447; Pub. L. 111-281.

4. In § 679.2:

a. Remove the definition for “Observer Program Office”; and

b. Add the definitions for “Cruise” and “Observer Program” in alphabetical order to read as follows:

§ 679.2 Definitions.

* * * * *

Cruise means an observer deployment with a unique cruise number. A cruise begins when an observer receives an endorsement to deploy and ends when the observer completes all debriefing responsibilities.

* * * * *

Observer Program means the administrative office of the North Pacific Observer Program located at the Alaska Fisheries Science Center (See § 679.51(c)(3) for contact information).

* * * * *

5. In § 679.32:

a. Remove and reserve paragraphs (c)(3)(i)(B)(2), (c)(3)(i)(C)(2), and (c)(3)(i)(E)(2); and

b. Add paragraph (c)(3)(i)(E)(4) to read as follows:

§ 679.32 Groundfish and halibut CDQ catch monitoring.

* * * * *

(c) * * *

(3) * * *

(i) * * *

(E) * * *

(4) Notify the Observer Program by phone at 1 (907) 581-2060 (Dutch Harbor, AK) or 1 (907) 481-1770 (Kodiak, AK) at least 24 hours prior to departure when the vessel will be carrying an observer who has not previously been deployed on that vessel within the last 12 months. Subsequent to the vessel's departure notification, but prior to departure, NMFS may contact the vessel to arrange for a pre-cruise meeting. The pre-cruise meeting must minimally include the vessel operator or manager and any observers assigned to the vessel.

* * * * *

6. Revise the heading of subpart E to read as follows:

Subpart E—North Pacific Observer Program

7. In § 679.50, revise paragraph (a)(2) to read as follows:

§ 679.50 Applicability.

(a) * * *

(2) Exceptions. A catcher vessel is not subject to the requirements of this subpart when delivering unsorted codends to a mothership.

* * * * *

8. In § 679.51, revise paragraph (a)(2)(vi)(A)(5) to read as follows:

§ 679.51 Observer and Electronic Monitoring System requirements for vessels and plants.

(a) * * *

(2) * * *

(vi) * * *

(A) * * *

(5) Motherships. A mothership that receives unsorted codends from catcher vessels groundfish CDQ fishing must have at least two observers aboard the mothership, at least one of whom must be endorsed as a lead level 2 observer. More than two observers must be aboard if the observer workload restriction would otherwise preclude sampling as required.

* * * * *

9. In § 679.53:

a. Remove and reserve paragraph (a)(5)(v)(B); and

b. Revise paragraph (a)(5)(v)(C) to read as follows:

§ 679.53 Observer certification and responsibilities.

(a) * * *

(5) * * *

(v) * * *

(C) A lead level 2 observer on a vessel using nontrawl gear must have completed the following:

(1) Two observer cruises (contracts) of at least 10 days each;

(2) Successfully completed training or briefing as prescribed by the Observer Program; and

(3) Either sampled at least 30 sets on a vessel using nontrawl gear or sampled at least 100 hauls on a catcher/processor using trawl gear or on a mothership.

* * * * *

§§ 679.51, 679.52, and 679.53 [Amended]

10. In the table below, for each section indicated in the “Location” column, remove the phrase indicated in the “Remove” column from wherever it appears in the section and add the word indicated in the “Add” column:

Location | Remove | Add | Frequency
§ 679.51(a)(2)(vi)(B)(1), (a)(2)(vi)(B)(3), (a)(2)(vi)(B)(4), (a)(2)(vi)(C), (a)(2)(vi)(D)(1), (a)(2)(vi)(D)(2), and (a)(2)(vi)(E)(1) | certified | endorsed | 1
§ 679.51(c)(3) | Observer Program Office | Observer Program | 1
§ 679.52(a)(2), (b)(1)(iii)(A), (b)(2)(iv), (b)(3)(ii)(B), and (b)(8) introductory text | Observer Program Office | Observer Program | 1
§ 679.52(b)(11) introductory text | Observer Program Office | Observer Program | 2
§ 679.52(b)(11)(i) introductory text, (b)(11)(ii), (b)(11)(iii), and (b)(11)(vi) introductory text | Observer Program Office | Observer Program | 1
§ 679.52(b)(11)(vii) introductory text | Observer Program Office | Observer Program | 3
§ 679.52(b)(11)(viii) introductory text, (b)(11)(viii)(A), (b)(11)(ix), (b)(11)(x) introductory text, and (b)(12) | Observer Program Office | Observer Program | 1
§ 679.53(a)(1) | Observer Program Office | Observer Program | 1
§ 679.53(a)(5)(v) introductory text, and (a)(5)(v)(A) | “lead” | lead | 1
§ 679.53(b)(2)(i) | Observer Program Office | Observer Program | 1

11. In § 679.84, revise paragraph (c)(7) to read as follows:

§ 679.84 Rockfish Program Recordkeeping, permits, monitoring, and catch accounting.

* * * * *

(c) * * *

(7) Pre-cruise meeting. The Observer Program is notified by phone at 1 (907) 481-1770 (Kodiak, AK) at least 24 hours prior to departure when the vessel will be carrying an observer who has not previously been deployed on that vessel within the last 12 months. Subsequent to the vessel's departure notification, but prior to departure, NMFS may contact the vessel to arrange for a pre-cruise meeting. The pre-cruise meeting must minimally include the vessel operator or manager and any observers assigned to the vessel.

* * * * *

12. In § 679.93, revise paragraph (c)(7) to read as follows:

§ 679.93 Amendment 80 Program recordkeeping, permits, monitoring, and catch accounting.

* * * * *

(c) * * *

(7) Pre-cruise meeting. The Observer Program is notified by phone at 1 (907) 581-2060 (Dutch Harbor, AK) or 1 (907) 481-1770 (Kodiak, AK) at least 24 hours prior to departure when the vessel will be carrying an observer who has not previously been deployed on that vessel within the last 12 months. Subsequent to the vessel's departure notification, but prior to departure, NMFS may contact the vessel to arrange for a pre-cruise meeting. The pre-cruise meeting must minimally include the vessel operator or manager and any observers assigned to the vessel.

* * * * *

13. In § 679.100, add paragraphs (b)(1)(v) and (b)(2)(i)(E) to read as follows:

§ 679.100 Applicability.

* * * * *

(b) * * *

(1) * * *

(v) The Observer Program is notified by phone at 1 (907) 581-2060 (Dutch Harbor, AK) or 1 (907) 481-1770 (Kodiak, AK) at least 24 hours prior to departure when the vessel will be carrying an observer who has not previously been deployed on that vessel within the last 12 months. Subsequent to the vessel's departure notification, but prior to departure, NMFS may contact the vessel to arrange for a pre-cruise meeting. The pre-cruise meeting must minimally include the vessel operator or manager and any observers assigned to the vessel.

(2) * * *

(i) * * *

(E) The Observer Program is notified by phone at 1 (907) 581-2060 (Dutch Harbor, AK) or 1 (907) 481-1770 (Kodiak, AK) at least 24 hours prior to departure when the vessel will be carrying an observer who has not previously been deployed on that vessel within the last 12 months. Subsequent to the vessel's departure notification, but prior to departure, NMFS may contact the vessel to arrange for a pre-cruise meeting. The pre-cruise meeting must minimally include the vessel operator or manager and any observers assigned to the vessel.

* * * * *

[FR Doc. 2018-14071 Filed 6-28-18; 8:45 am]

BILLING CODE 3510-22-P